DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before March 31, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: George F. Triebsch, Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2014-001-C.

Petitioner: CONSOL Buchanan Mining Company, 1000 CONSOL Energy Drive, Canonsburg, Pennsylvania 15317-6506.

Mine: Buchanan Mine #1 Mine, MSHA I.D. No. 44-04856, located in Buchanan County, Virginia.

Regulation Affected: 30 CFR 75.503 (Permissible electric face equipment; maintenance), (18.35(a)(5)(i) (Portable (trailing) cables and cords)).

Modification Request: The petitioner requests a modification of the existing standard to permit maximum length of trailing cables to be increased to 1,000 feet for supplying power to mining machines, section ventilation fans and roof bolters. The petitioner states that:

(1) This petition will apply only to trailing cables supplying three-phase, 995-volt power to mining machines and trailing cables supplying three-phase, 575-volt power to roof bolters and section ventilation fans.

(2) The maximum lengths of the 995-volt trailing cables and 575-volt trailing cables will be 1,000 feet.

(3) The 995-volt mining machine trailing cables will not be smaller than 2.0. The 575-volt trailing cables for section ventilation fans will not be smaller than No. 1 American Wire Gauge (AWG). The 575-volt trailing cables for roof bolters will not be smaller than No. 2 AWG.

(4) All circuit breakers used to protect the 2.0 trailing cables exceeding 850 feet in length will have instantaneous trip units calibrated to trip at 1,500 amperes. The trip setting of these circuit breakers will be sealed or locked, and these circuit breakers will have permanent, legible labels. Each label will identify the circuit breaker as being suitable for protecting 2.0 cables. This label will be maintained legible.

(5) Replacement instantaneous trip units, used to protect 2.0 trailing cables will be calibrated to trip at 1,500 amperes and this setting will be sealed or locked.

(6) All circuits breaker used to protect No. 1 AWG trailing cables exceeding 750 feet in length will have instantaneous trip units calibrated to trip at 1,000 amperes. The trip setting of these circuit breakers will be sealed or locked, will have permanent legible labels. Each label will identify the circuit breaker being suitable for protecting No. 1 AWG cables. This label will be maintained legible.

(7) Replacement instantaneous trip units used to protect No. 1 AWG trailing cables will be calibrated to trip at 1,000 amperes and this setting will be sealed or locked.

(8) All circuits used to protect #2 AWG trailing cables exceeding 700 feet in length will have instantaneous trip units calibrated to trip at 800 amperes. The trip setting of these circuit breakers will be sealed or locked and will have permanent legible labels. Each label will identify the circuit breaker as being suitable for protecting No. 2 AWG cables. This label will be maintained legible.

(9) Replacement instantaneous trip units used to protect No. 2 AWG trailing cables will be calibrated to trip at 800 amperes and this setting will be sealed or locked.

(10) During each production day, persons designated by the operator will visually examine the trailing cables to ensure that the cables are in safe operating condition and that the instantaneous settings of the specially calibrated breakers do not have seals or locks removed and that they do not exceed the stipulated settings.

(11) Any trailing cable that is not in safe operating conditions will be removed from service immediately and repaired or replaced.

(12) Each splice or repair in the trailing cable will be made in a workmanlike manner and in accordance with the instructions of the manufacturer of the splice or repair materials. The outer jacket of each splice or repair will be vulcanized with flame-resistant material or made with material that has been accepted by MSHA as flame-resistant.

(13) In the event the mining methods or operating procedures cause or contribute to the damage of any trailing cable, the cable will be removed from service immediately and repaired or replaced. Additional precautions will be taken to ensure that in the future, the cable is protected and maintained in safe operating condition.

(14) Permanent warning labels will be installed and maintained on the cover(s) of the power center identifying the location of each sealed or locked short-circuit protection device. These labels will warn miners not to change or alter these short-circuit settings.

(15) The petitioner's alternative method will not be implemented until all miners who have been designated to examine the integrity of the seals or locks, and to verify the short-circuit settings and proper procedures for examining trailing cables for defects and damage, have received the elements of training specified in Item No. 16.

(16) Within 60 days after this proposed decision and order becomes final, the proposed revisions for the petitioner's approved 30 CFR part 48 training plan will be submitted to the District Manager. The training plan will include the following:

(i) The mining methods and operating procedures that will protect the trailing cables against damage;

(ii) The proper procedures for examining the trailing cables to ensure that the cables are in safe operating condition;

(iii) The hazards of setting the instantaneous circuit breakers too high to adequately protect the trailing cables; and

(iv) How to verify that the circuit interrupting device(s) protecting the trailing cable(s) are properly set and maintained.

The petitioner further states that procedures specified in 30 CFR 48.3 for proposed revisions to approved training plans will apply.

The petitioner asserts that the alternative method will guarantee no less than the same measure of protection for all miners afforded by the existing standard.

Docket Number: M-2014-002-C.

Petitioner: Consol Pennsylvania Coal Company, LLC, Three Gateway Center, Suite 1500, 401 Liberty Avenue, Pittsburgh, Pennsylvania 15222.

Mine: BMX Mine, MSHA I.D. No. 36-10045, located in Greene County, Pennsylvania.

Regulation Affected: 30 CFR 75.500(d) (Permissible electric equipment).

Modification Request: The petitioner requests a modification of the existing standard to permit an alternative method of compliance to allow the use of battery-powered nonpermissible surveying equipment in or inby the last open crosscut, including, but not limited to, portable battery-operated mine transits, total station surveying equipment, distance meters, and data loggers. The petitioner states that:

(1) To comply with requirements for mine ventilation maps and mine maps in 30 CFR 75.372 and 75.1200, use of the most practical and accurate surveying equipment is necessary.

(2) Application of the existing standard would result in a diminution of safety to the miners. Underground mining by its nature and size, and the complexity of mine plans, requires that accurate and precise measurements be completed in a prompt and efficient manner. The petitioner proposes the following as an alternative to the existing standard:

(a) Nonpermissible electronic surveying equipment may be used. Such nonpermissible surveying equipment includes portable battery-operated total station surveying equipment, mine transits, distance meters, and data loggers.

(b) All nonpermissible electronic surveying equipment to be used in or inby the last open crosscut will be examined prior to use to ensure the equipment is being maintained in a safe operating condition. These examinations will include the following steps:

(i) Checking the instrument for any physical damage and the integrity of the case.

(ii) Removing the battery and inspecting for corrosion.

(iii) Inspecting the contact points to ensure a secure connection to the battery.

(iv) Reinserting the battery and powering up and shutting down to ensure proper connections.

(v) Checking the battery compartment cover to ensure that it is securely fastened.

(c) The results of such examinations will be recorded and retained for one year and made available to MSHA on request.

(d) A qualified person as defined in 30 CFR 75.151 will continuously monitor for methane immediately before and during the use of nonpermissible surveying equipment in or inby the last open crosscut.

(e) Nonpermissible surveying equipment will not be used if methane is detected in concentrations at or above one percent for the area being surveyed. When methane is detected at such levels while the nonpermissible surveying equipment is being used, the equipment will be deenergized immediately and the nonpermissible electronic equipment withdrawn outby the last open crosscut.

(f) All hand-held methane detectors will be MSHA-approved and maintained in permissible and proper operating condition as defined in 30 CFR 75.320.

(g) Batteries in the surveying equipment will be changed out or charged in fresh air outby the last open crosscut.

(h) Qualified personnel who use surveying equipment will be properly trained to recognize the hazards and limitations associated with the use of nonpermissible surveying equipment in areas where methane could be present.

(i) The nonpermissible surveying equipment will not be put into service until MSHA has initially inspected the equipment and determined that it is in compliance with all the terms and conditions in this petition.

The petitioner asserts that the proposed alternative method will at all times guarantee no less than the same measure of protection as that afforded by the existing standard.

Docket Number: M-2014-003-C.

Petitioner: Consol Pennsylvania Coal Company, LLC, Three Gateway Center, Suite 1500, 401 Liberty Avenue, Pittsburgh, Pennsylvania 15222.

Mine: BMX Mine, MSHA I.D. No. 36-10045, located in Greene County, Pennsylvania.

Regulation Affected: 30 CFR 75.507-1(a) (Electric equipment other than power-connection points; outby the last open crosscut; return air; permissibility requirements).

Modification Request: The petitioner requests a modification of the existing standard to permit an alternative method of compliance to allow the use of battery-powered nonpermissible surveying equipment in return airways, including, but not limited to, portable battery-operated mine transits, total station surveying equipment, distance meters, and data loggers. The petitioner states that:

(1) To comply with requirements for mine ventilation maps and mine maps in 30 CFR 75.372 and 75.1200, use of the most practical and accurate surveying equipment is necessary.

(2) Application of the existing standard would result in a diminution of safety to the miners. Underground mining, by its nature and size and the complexity of mine plans, requires that accurate and precise measurements be completed in a prompt and efficient manner. The petitioner proposes the following as an alternative to the existing standard:

(a) Nonpermissible electronic surveying equipment may be used. Such nonpermissible surveying equipment includes portable battery-operated total station surveying equipment, mine transits, distance meters, and data loggers.

(b) All nonpermissible electronic surveying equipment to be used in return airways will be examined by surveying personnel prior to use to ensure the equipment is being maintained in a safe operating condition. These examinations will include the following steps:

(i) Checking the instrument for any physical damage and the integrity of the case.

(ii) Removing the battery and inspecting for corrosion.

(iii) Inspecting the contact points to ensure a secure connection to the battery.

(iv) Reinserting the battery and powering up and shutting down to ensure proper connections.

(v) Checking the battery compartment cover to ensure that it is securely fastened.

(c) The results of such examinations will be recorded and retained for one year and made available to MSHA on request.

(d) A qualified person as defined in 30 CFR 75.151 will continuously monitor for methane immediately before and during the use of nonpermissible surveying equipment in return airways.

(e) Nonpermissible surveying equipment will not be used if methane is detected in concentrations at or above one percent for the area being surveyed. When methane is detected at such levels while the nonpermissible surveying equipment is being used, the equipment will be deenergized immediately and the nonpermissible electronic equipment withdrawn out of the return airways.

(f) All hand-held methane detectors will be MSHA-approved and maintained in permissible and proper operating condition as defined in 30 CFR 75.320.

(g) Batteries in the surveying equipment will be changed out or charged in fresh air out of the return.

(h) Qualified personnel who use surveying equipment will be properly trained to recognize the hazards and limitations associated with the use of nonpermissible surveying equipment in areas where methane could be present.

(i) The nonpermissible surveying equipment will not be put into service until MSHA has initially inspected the equipment and determined that it is in compliance with all the terms and conditions in this petition.

The petitioner asserts that the proposed alternative method will at all times guarantee no less than the same measure of protection as that afforded by the existing standard.

Docket Number: M-2014-004-C.

Petitioner: Consol Pennsylvania Coal Company, LLC, Three Gateway Center, Suite 1500, 401 Liberty Avenue, Pittsburgh, Pennsylvania 15222.

Mine: BMX Mine, MSHA I.D. No. 36-10045, located in Greene County, Pennsylvania.

Regulation Affected: 30 CFR 75.1002(a) (Installation of electric equipment and conductors; permissibility).

Modification Request: The petitioner requests a modification of the existing standard to permit an alternative method of compliance to allow the use of battery-powered nonpermissible surveying equipment within 150 feet of longwall faces and pillar workings, including, but not limited to, portable battery-operated mine transits, total station surveying equipment, distance meters, and data loggers. The petitioner states that:

(1) To comply with requirements for mine ventilation maps and mine maps in 30 CFR 75.372, 75.1002(a), and 75.1200, use of the most practical and accurate surveying equipment is necessary. To ensure the safety of the miners in active mines and to protect miners in future mines that may mine in close proximity to these same active mines, it is necessary to determine the exact location and extent of the mine workings.

(2) Application of the existing standard would result in a diminution of safety to the miners. Underground mining by its nature and size, and the complexity of mine plans, requires that accurate and precise measurements be completed in a prompt and efficient manner. The petitioner proposes the following as an alternative to the existing standard:

(a) Nonpermissible electronic surveying equipment may be used. Such nonpermissible surveying equipment includes portable battery-operated total station surveying equipment, mine transits, distance meters, and data loggers.

(b) All nonpermissible electronic surveying equipment to be used within 150 feet of pillar workings or longwall faces will be examined prior to use to ensure the equipment is being maintained in a safe operating condition. These examinations will include the following steps:

(i) Checking the instrument for any physical damage and the integrity of the case.

(ii) Removing the battery and inspecting for corrosion.

(iii) Inspecting the contact points to ensure a secure connection to the battery.

(iv) Reinserting the battery and powering up and shutting down to ensure proper connections.

(v) Checking the battery compartment cover to ensure that it is securely fastened.

(c) The results of such examinations will be recorded and retained for one year and made available to MSHA on request.

(d) A qualified person as defined in 30 CFR 75.151 will continuously monitor for methane immediately before and during the use of nonpermissible surveying equipment within 150 feet of pillar workings.

(e) Nonpermissible surveying equipment will not be used if methane is detected in concentrations at or above one percent for the area being surveyed. When methane is detected at such levels while the nonpermissible surveying equipment is being used, the equipment will be deenergized immediately and the nonpermissible electronic equipment withdrawn further than 150 feet from pillar workings.

(f) All hand-held methane detectors will be MSHA-approved and maintained in permissible and proper operating condition as defined in 30 CFR 75.320.

(g) Batteries in the surveying equipment will be changed out or charged in fresh air more than 150 feet from pillar workings.

(h) Qualified personnel who use surveying equipment will be properly trained to recognize the hazards and limitations associated with the use of nonpermissible surveying equipment in areas where methane could be present.

(i) The nonpermissible surveying equipment will not be put into service until MSHA has initially inspected the equipment and determined that it is in compliance with all the terms and conditions in this petition.

The petitioner asserts that the proposed alternative method will at all times guarantee no less than the same measure of protection as that afforded by the existing standard.

Docket Number: M-2014-001-M.

Petitioner: DMC Mining Services, 488 East 6400 South, Suite 250, Murray, Utah 84107.

Mine: Tata Chemicals Mine, MSHA I.D. No. 48-00155, 324 Allied Chemical Road, Green River, Wyoming 82935, located in Sweetwater County, Wyoming.

Regulation Affected: 30 CFR 57.22606(a) & (c) (Explosive Materials and blasting units (III mines)).

Modification Request: The petitioner requests a modification of the existing standard to permit the use of nonpermissible detonators to detonate explosives in the blast hole during work at the construction of the Tata Chemicals Number 7 Ventilation Shaft.

The petitioner states that:

(1) The construction will be for a 20-foot finished diameter ventilation shaft that will be constructed in two phases. Phase one will include the use of a raise boring drill to complete an 8-foot diameter raise. This raise will remain intact during both phases of the project for ventilation and material handling. Phase two will consist of sinking through the shaft by slashing to 22 feet in diameter and installing a concrete liner to a final diameter of 20 feet.

(2) The geological ground conditions in the Green River basin are highly conductive and interfere with permissible electric detonators. The ground inhibits the ability to safely conduct electricity to detonate a blast round. The resultant potential for misfires and partial round detonation introduces a safety risk to workers and the mine.

(3) To mitigate the risk, only blasting detonators will be nonpermissible, explosives will be permissible, and rounds will be in either four or eight foot lifts.

The petitioner asserts that the proposed alternative method will at all times guarantee no less than the same measure or protection afforded by the existing standard.

Docket Number: M-2014-002-M.

Petitioner: FMC Minerals, 580 Westvaco Road, Box 872, Green River, Wyoming 82935.

Mine: Westvaco Underground Trona Mine, MSHA I.D. No. 48-00152, located in Sweetwater County, Wyoming.

Regulation Affected: 30 CFR 57.22305 (Approved equipment (III Mines)).

Modification Request: The petitioner requests a modification of the existing standard to allow the use of low-voltage or battery-powered nonpermissible electronic testing and diagnostic equipment in or inby the last open crosscut in the Westvaco Underground Trona Mine. The petitioner states that:

(1) The nonpermissible low-voltage or battery-powered electronic testing equipment would be limited to laptop computers, oscilloscopes, vibration analysis machines, cable fault detectors, infrared temperature devices, signal analyzer devices, ultrasonic measuring devices, electronic component testers, infrared cameras, multi-meters and electronic megometers.

(2) All nonpermissible low-voltage or battery-powered equipment to be used in or inby the last open crosscut will be examined prior to use by a competent person as defined in 30 CFR 57.22002 to ensure the equipment is being maintained in a safe operating condition.

(3) A competent person as defined in 30 CFR 57.22002 will monitor for methane immediately before and during the use of nonpermissible low-voltage battery-operated electronic testing and diagnostic equipment in or inby the last open crosscut. All hand-held methane detectors will be MSHA-approved and maintained in permissible and proper operating condition as defined in 30 CFR 22227.

(4) Nonpermissible low-voltage or battery-operated testing or diagnostic equipment will not be used if methane is detected in concentrations at or above one percent. When methane is detected at such levels while the nonpermissible electronic testing and diagnostic equipment is being used, the equipment will be deenergized immediately and the nonpermissible electronic equipment withdrawn outby the last open crosscut as defined in 30 CFR 57.22234.

(5) Production will cease except for the time necessary to trouble shoot under actual mining conditions.

(6) All low-voltage and battery-operated electronic and diagnostic equipment will be used in accordance with the manufacturer's recommended safe use procedures.

(7) Competent personnel engaged in the use of nonpermissible low-voltage or battery-operated testing and diagnostic equipment will be properly trained to recognize the hazards and limitations associated with the use of nonpermissible testing and diagnostic equipment in areas where methane could be present.

The petitioner further states that the nonpermissible equipment will be used in preventive maintenance to monitor machine condition to detect problems before failure occurs so that it can be repaired at a predetermined time and place to minimize the risk to miners. The nonpermissible equipment will also be used to diagnose equipment failures without having to move failed equipment with other equipment outby the last open crosscut minimizing the risk to miners.

The petitioner asserts that the proposed alternative method will at all times guarantee no less than the same measure or protection afforded by the existing standard.

Dated: February 21, 2014.
Patricia W. Silvey,
Certifying Officer.

[FR Doc. 2014-04244 Filed 2-26-14; 8:45 am]

BILLING CODE 4510-43-P